FEDERAL COMMUNICATIONS COMMISSION

47 CFR Part 73

[MB Docket No. 22-13; RM-11914; DA 22-360; FR ID 81398]

Television Broadcasting Services Albany, New York

AGENCY: Federal Communications Commission.

ACTION: Final rule.

SUMMARY: On January 11, 2022, the Media Bureau, Video Division (Bureau) issued a Notice of Proposed Rulemaking (NPRM) in response to a petition for rulemaking filed by WNYT-TV, LLC (Petitioner), the licensee of WNYT-TV (Station), channel 12, Albany, New York, requesting the substitution of channel 24 for channel 12 at Albany in the Table of Allotments. For the reasons set forth in the Report and Order referenced below, the Bureau amends the Federal Communications Commission (Commission or FCC) regulations to substitute channel 24 for channel 12 at Albany.

DATES: Effective April 11, 2022.

FOR FURTHER INFORMATION CONTACT: Joyce Bernstein, Media Bureau, at (202) 418-1647 or Joyce.Bernstein@fcc.gov.

SUPPLEMENTARY INFORMATION: The proposed rule was published at 87 FR 3489 on January 24, 2022. The Petitioner filed comments in support of the petition reaffirming its commitment to apply for channel 24. No other comments were filed. In support of its channel substitution request, the Petitioner states that the Station has a long history of significant reception problems given the local terrain, specifically the proximity of the Green, Berkshire, Catskill, and Adirondack mountain ranges and that these problems were exacerbated by the station's conversion from analog to digital operations on VHF channel 12, when it received numerous complaints from viewers about the station's over-the-air signal. In response to these complaints, the Petitioner applied for and received modification authorizations to increase the Station's effective radiated power (ERP) from 9.1 kW to 30 kW. According to the Petitioner, its proposal will result in a net gain in service to 289,588 persons within the Station's predicted noise limited service contour. While the proposal will result in a loss population of 210 persons within the predicted noise limited contour, the Petitioner demonstrated that the population within the loss area is currently served by at least five over-the-air television services. In addition, the Station is an NBC affiliate, and the Petitioner submitted an analysis, using the Commission's TVStudy software analysis program, demonstrating that after taking into account service provided by other NBC stations, all of the population located within the Station's original DTV channel 12 noise limited contour will continue to receive NBC service, except for 130 people, a number which the Commission considers de minimis. Moreover, the proposed channel 21 facility will result in 30,075 persons gaining access to NBC network programing that did not have it before.

This is a synopsis of the Commission's Report and Order, MB Docket No. 22-13; RM-11914; DA 22-360, adopted April 4, 2022, and released April 4, 2022. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of the Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.622(j), amend the Table of Allotments, under New York, by revising the entry for Albany to read as follows:

§ 73.622 Digital television table of allotments.

* * * * *

(j) * * *

Community | Channel No.
* * * * *
NEW YORK
Albany | 8, 21, 24
* * * * *

[FR Doc. 2022-07637 Filed 4-8-22; 8:45 am]

BILLING CODE 6712-01-P